DEPARTMENT OF AGRICULTURE

Office of the Secretary

[Docket ID: USDA-2021-0006]

Identifying Barriers in USDA Programs and Services; Advancing Racial Justice and Equity and Support for Underserved Communities at USDA

AGENCY: Office of the Secretary, U.S. Department of Agriculture.

ACTION: Request for information; extension of comment period.

SUMMARY: We are extending the comment period for our notice seeking input from the public on how the U.S. Department of Agriculture (USDA) can advance racial justice and equity for underserved communities as part of its implementation of Executive Order 13985, Advancing Racial Equity and Support for Underserved Communities Through the Federal Government. This action will allow interested persons additional time to prepare and submit comments.

DATES: The comment period of the request for information published June 16, 2021, at 86 FR 32013, is extended until August 14, 2021. To be assured of consideration, comments must be received on or before August 14, 2021.

ADDRESSES: Comments submitted in response to this notice may be submitted online via the Federal eRulemaking Portal. Go to http://www.regulations.gov and search for the Docket number USDA-2021-0006. Follow the online instructions for submitting comments. All comments received will be posted without change and publicly available on www.regulations.gov.

FOR FURTHER INFORMATION CONTACT: Elizabeth Archuleta, Director, USDA Office of Intergovernmental & External Affairs, telephone: 202-720-7095, email: EquityRFI@usda.gov.

SUPPLEMENTARY INFORMATION: On June 16, 2021, we published in the Federal Register (86 FR 32013, Docket No. USDA-2021-0006) a notice seeking input from the public on how USDA can advance racial justice and equity for underserved communicates as part of its implementation of Executive Order 13985, Advancing Racial Equity and Support for Underserved Communities Through the Federal Government.

Comments on the notice were required to be received on or before July 15, 2021. We are extending the comment period on Docket No. USDA-2021-0006 until August 14, 2021. This action will allow interested persons additional time to prepare and submit comments.

Lisa Ramirez,
Director, Office of Partnerships & Public Engagement, U.S. Department of Agriculture.

[FR Doc. 2021-15259 Filed 7-14-21; 4:15 pm]

BILLING CODE 3410-90-P